DEPARTMENT OF COMMERCE

International Trade Administration

[A-533-824, A-583-837]

Polyethylene Terephthalate Film, Sheet and Strip From India and Taiwan: Final Results of the Expedited Third Sunset Reviews of the Antidumping Duty Orders

AGENCY: Enforcement and Compliance, International Trade Administration, Department of Commerce.

SUMMARY: As a result of these expedited sunset reviews, Commerce finds that revocation of the antidumping duty orders would be likely to lead to the continuation or recurrence of dumping at the levels indicated in the “Final Results of Review” section of this notice.

DATES: Applicable November 4, 2019.

FOR FURTHER INFORMATION CONTACT: Jacqueline Arrowsmith AD/CVD Operations, Office VII, Enforcement and Compliance, International Trade Administration, U.S. Department of Commerce, 1401 Constitution Avenue NW, Washington, DC 20230; telephone: (202) 482-5255.

SUPPLEMENTARY INFORMATION:

Background

On July 1, 2019, Commerce published the notice of initiation of the third sunset reviews of the antidumping duty orders on polyethylene terephthalate film, sheet, and strip (PET Film) from India and Taiwan ¹ pursuant to section 751(c) of the Act.² On July 11, 2019, and July 16, 2019, Commerce received notices of intent to participate from the petitioners ³ and Terphane LLC (Terphane), respectively.⁴ Each filing was timely submitted within the 15-day deadline specified in 19 CFR 351.218(d)(1)(i). The petitioners and Terphane each claimed interested party status under section 771(9)(C) of the Act as a producer of PET Film in the United States.

¹ See Notice of Amended Final: Antidumping Duty Determination of Sales at Less Than Fair Value and Antidumping Duty Order: Polyethylene Terephthalate Film, Sheet, and Strip from India, 67 FR 44175 (July 1, 2002) (Antidumping Duty Order).

² See Initiation of Five-Year (Sunset) Reviews, 84 FR 31304 (July 1 2019).

³ The petitioners are DuPont Teijin Films, Mitsubishi Polyester Film, Inc., and SKC, Inc.

⁴ See Petitioners' Letters, “Polyethylene Terephthalate (PET) Film, Sheet, and Strip from India: Notice of Intent to Participate in Sunset Review,” dated July 11; 2019; and “Polyethylene Terephthalate (PET) Film, Sheet, and Strip from Taiwan: Notice of Intent to Participate in Sunset Review, “dated July 11, 2019; Terphane's Letter, “Five-Year (“Sunset”) Review of Antidumping Order on Polyethylene Terephthalate (PET) Film, Sheet, And Strip from India: Notice of Intent to Participate,” dated July 16, 2019;” see also Terphane's Letter, “Five-Year (“Sunset”) Review of Antidumping Order on Polyethylene Terephthalate (PET) Film, Sheet, And Strip from Taiwan: Notice of Intent to Participate,” dated July 16, 2019.

On July 31, 2019, Commerce received adequate substantive responses to the notice of initiation from the petitioners as well as from Terphane, a manufacturer of domestic like product, within the 30-day deadline specified in 19 CFR 351.218(d)(3)(i).⁵ On July 31, 2019, Polyplex USA LLC, (Polyplex USA), a domestic interested party, filed a notice of appearance and a substantive response.⁶ We received no substantive responses from respondent interested parties with respect to either of the orders covered by these sunset reviews.

⁵ See Petitioners' Letters, Polyethylene Terephthalate (PET) Film, Sheet, and Strip from India: Substantive Response to the Notice of Initiation,” dated July 31, 2019 (Petitioners' India Substantive Response); and, Polyethylene Terephthalate (PET) Film, Sheet, and Strip from Taiwan: Substantive Response to the Notice of Initiation,” dated July 31, 2019 (Petitioners' Taiwan Substantive Response); see alsoTerphane's Letter, “Five-Year (“Sunset”) Review of Antidumping Orders on Polyethylene Terephthalate (PET) Film, Sheet, And Strip from India And Taiwan, and Countervailing Duty Order on PET Film, Sheet, And Strip from India: Terphane's Substantive Response, ” dated July 31, 2019 (Terphane's Substantive Response).

⁶ See Polyplex USA LLC's notice of appearance, dated July 31, 2019; see also Polyplex USA LLC's Letter, “Polyethylene Terephthalate (PET) Film from India and Taiwan: Response to the Notice of Initiation of Five-Year (Sunset) Reviews and Support for Continuation of the Orders,” dated July 31, 2019.

On September 3, 2019, Commerce notified the U.S. International Trade Commission that it did not receive an adequate substantive response from respondent interested parties.⁷ As a result, pursuant to 19 CFR 351.218(e)(1)(ii)(C)(2), Commerce is conducting expedited (120-day) sunset reviews of the antidumping duty orders on PET Film from India and Taiwan.

⁷ See Commerce's Letter, “Sunset Reviews Initiated on July 1, 2019,” dated September 3, 2019.

Scope of the Orders

The products covered by this Order is PET Film and is currently classifiable in the Harmonized Tariff Schedule of the United States (HTSUS) under item number 3920.62.00.90. A full description of the scope of the Order is contained in the accompanying Issues and Decision Memorandum.⁸

⁸ See Memorandum, “Issues and Decision Memorandum for the Expedited Third Sunset Reviews of the Antidumping Duty Orders on Polyethylene Terephthalate Film, Sheet and Strip from India and Taiwan,” dated concurrently with this notice (Issues and Decision Memorandum).

Analysis of Comments Received ⁹

⁹ 19 CFR 351.218(d)(1)(i) states that where a domestic interested party intends to participate in a sunset review, it must file a notice of intent to participate with Commerce within 15 days after the publications of the notice of initiation. As noted above, Polyplex USA untimely filed its notice of appearance on July 31, 2019. 19 CFR 351.218(d)(1)(iii)(A) states that Commerce will not accept or consider any unsolicited submissions from that party during the course of the review. Accordingly, we have not considered Polyplex USA's submissions.

All issues raised in these sunset reviews are addressed in the Issues and Decision Memorandum,¹⁰ which is hereby adopted by this notice. The issues discussed in the Issues and Decision Memorandum are the likelihood of continuation or recurrence of dumping and the magnitude of the dumping margin likely to prevail if the orders were revoked. The Issues and Decision Memorandum is a public document and is on file electronically via Enforcement and Compliance's Antidumping and Countervailing Duty Centralized Electronic Service System (ACCESS). ACCESS is available to registered users at http://access.trade.gov, and to all in the Central Records Unit, Room B8024 of the main Commerce building. A list of topics discussed in the Issues and Decision Memorandum is included as an Appendix to this notice. In addition, a complete version of the Issues and Decision Memorandum can be accessed directly on the internet at http://enforcement.trade.gov/frn. The signed Issues and Decision Memorandum and the electronic version of the Issues and Decision Memorandum are identical in content.

¹⁰ See Issues and Decision Memorandum.

Final Results of Reviews

Pursuant to sections 751(c)(1) and 752(c)(1) and (3) of the Act, Commerce determines that revocation of the antidumping duty orders on PET Film from India and Taiwan would be likely to lead to the continuation or recurrence of dumping at weighted-average dumping margins up to 24.10 percent for India and 8.99 percent for Taiwan.

Notification to Interested Parties

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and this notice in accordance with sections 751(c), 752(c), and 777(i)(1) of the Act and 19 CFR 351.218.

Dated: October 29, 2019.
Christian Marsh,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Dumping Margins Likely to Prevail

VII. Final Results of Sunset Review

VIII. Recommendation

[FR Doc. 2019-24044 Filed 11-1-19; 8:45 am]

BILLING CODE 3510-DS-P